DEPARTMENT OF COMMERCE

Office of the Secretary

Agency Information Collection Activities; Submission to the Office of Management and Budget (OMB) for Review and Approval; Comment Request; Research Performance Progress Report (RPPR)

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on June 28, 2024 during a 60-day comment period. This notice allows for an additional 30 days for public comments.

Agency: Office of the Secretary, Commerce.

Title: Research Performance Progress Report (RPPR).

OMB Control Number: 0690-0032.

Form Number(s): None.

Type of Request: Regular submission. Extension of a currently approved collection.

Number of Respondents: 2,050.

Average Hours per Response: The annual progress reports range from a minimum of 2 hours to a maximum of 15 hours, depending on the type of research project being supported.

Total Annual Burden Hours: 82,000 hours.

Needs and Uses: This Research Performance Progress Report (RPPR) directly benefits award recipients by making it easier for them to administer Federal grant and cooperative agreement programs through standardization of the types of information required in performance reports—thereby reducing their administrative effort and costs. The RPPR also makes it easier to compare the outputs, outcomes, etc. of research programs across the government.

The RPPR resulted from an initiative of the Research Business Models (RBM) Subcommittee of the Committee on Science (CoS), a committee of the National Science and Technology Council (NSTC). One of the RBM Subcommittee's priority areas is to create greater consistency in the administration of Federal research awards. Given the increasing complexity of interdisciplinary and interagency research, it is important for Federal agencies to manage awards in a similar fashion. The RPPR is used by agencies that support research and research-related activities for use in submission of progress reports. It is intended to replace other performance reporting formats currently in use by agencies. The RPPR does not change the performance reporting requirements specified in 2 CFR part 215 (OMB Circular A-110) and the Common Rule implementing OMB Circular A-102. Each category in the RPPR is a separate reporting component. Agencies will direct recipients to report on the one mandatory component (“Accomplishments”), and may direct them to report on optional components, as appropriate. Within a particular component, agencies may direct recipients to complete only specific questions, as not all questions within a given component may be relevant to all agencies.

Agencies may develop an agency- or program-specific component, if necessary, to meet programmatic requirements, although agencies should minimize the degree to which they supplement the standard components. Such agency- or program specific requirements will require review and clearance by OMB.

Affected Public: State and Local governments.

Frequency: Quarterly.

Respondent's Obligation: Voluntary.

Legal Authority: Title 13 U.S.C. 131 and 182.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0690-0032.

Sheleen Dumas,
Departmental PRA Clearance Officer, Office of the Under Secretary for Economic Affairs, Commerce Department.

[FR Doc. 2024-24842 Filed 10-24-24; 8:45 am]

BILLING CODE 3510-17-P